DEPARTMENT OF HEALTH AND HUMAN SERVICES

Centers for Disease Control and Prevention

Announcement of Requirements and Registration for The REACH Lark Galloway-Gilliam Nomination for Advancing Health Equity (REACH Lark Award)

AGENCY: Centers for Disease Control and Prevention (CDC), Department of Health and Human Services (HHS).

Award Approving Official: Robert R. Redfield, M.D., Director, Centers for Disease Control and Prevention, and Administrator, Agency for Toxic Substances and Disease Registry.

ACTION: Notice.

SUMMARY: The Centers for Disease Control and Prevention (CDC) located within the Department of Health and Human Services (HHS) announces the launch of the REACH Lark Galloway-Gilliam Nomination for Advancing Health Equity Award (REACH Lark Award). Racial and ethnic disparities in health remain pervasive across the United States. Over the last 20 years, the Racial and Ethnic Approaches to Community Health (REACH) program has demonstrated success in addressing these disparities and promoting health equity by engaging with diverse communities and implementing culturally tailored interventions. For more information about the REACH Program, visit https://www.cdc.gov/nccdphp/dnpao/state-local-programs/reach/index.htm.

This award honors extraordinary individuals, organizations, or community coalitions associated with the REACH program that have made significant advances in the science and/or practice of improving health equity, and the elimination of health disparities at the national, state, or local levels. The intent of the challenge is to recognize efforts made by individuals or teams that meaningfully engage communities to remove barriers to health by addressing factors such as race, ethnicity, education, income, location, and other social determinants of health. To support the science and practice of improving health equity, this challenge can help further the goals of the REACH program by documenting and further disseminating the innovative or unique interventions that led to reduced health disparities achieved by those applying for this award.

DATES: The Challenge will accept nominations from December 1, 2019 through January 28, 2020.

FOR FURTHER INFORMATION CONTACT: Delia Sikes, Division of Nutrition, Physical Activity, and Obesity, National Center for Chronic Disease Prevention and Health Promotion, Centers for Disease Control and Prevention, 4770 Buford Hwy. NE, Mailstop S107-5, Atlanta, GA 30341, Telephone: 770-488-5035, Email: dnpaopolicy@cdc.gov; subject line of email: REACH Lark Award.

SUPPLEMENTARY INFORMATION:

Subject of Challenge Competition

The challenge is authorized by Public Law 111-358, the America Creating Opportunities to Meaningfully Promote Excellence in Technology, Education and Science Reauthorization Act of 2010 (COMPETES Act).

Applicants will be asked to describe how they assisted with and/or successfully implemented culturally tailored interventions that ultimately led to reduced health disparities in chronic conditions including hypertension, heart disease, Type 2 diabetes, or obesity and associated risk behaviors of physical inactivity, poor nutrition, or smoking. This challenge will highlight how diverse communities were engaged to address health disparities and achieve one of the following listed below:

(1) Address preventable risk behaviors (tobacco use, poor nutrition and physical inactivity); or

(2) Link community and clinical efforts to increase access to healthcare and preventive care programs at the community level; or

(3) Support implementation, evaluation and dissemination of practice- and evidence-based strategies related to tobacco, nutrition, physical activity, or community-clinical linkages.

Eligibility Rules for Participating in the Competition

To be eligible to be recognized for this award under this challenge, an individual or team—

(1) Shall have completed the application for the competition under the rules promulgated by HHS/CDC;

(2) Shall have complied with all the requirements under this section and satisfy one of the following requirements:

a. Be a currently- or previously-funded CDC REACH recipient that has not previously received the REACH Lark Award in any year; or

b. Be a technical assistance provider to former or current REACH recipients (Current and past REACH recipients can be found at: https://www.cdc.gov/nccdphp/dnpao/state-local-programs/reach/index.htm); or

c. Be a partner organization, part of a partner network, or coalition members that collaborated with current or previously funded REACH recipients;

(3) Shall be a U.S. citizen or legal resident thirteen years of age or older. In the case of a private entity, shall be incorporated in and maintain a primary place of business in the United States, and in the case of an individual, whether participating singly or in a group, shall be a citizen or permanent resident of the United States. The United States means a State, the District of Columbia, the Commonwealth of Puerto Rico, and any other territory or possession of the United States; and

(4) Shall not be a Federal entity or Federal employee acting within the scope of their employment.

(5) Shall not be an HHS employee working on their applications or submissions during assigned duty hours;

(6) Shall not be an employee of or contractor at/within CDC;

(7) Federal grantees may not use Federal funds to develop COMPETES Act challenge applications for this challenge.

(8) Federal contractors may not use Federal funds from a contract to develop COMPETES Act challenge applications or to fund efforts in support of a COMPETES Act challenge submission.

(9) An individual or team shall not be deemed ineligible because the individual or team used Federal facilities or consulted with Federal employees during a competition if the facilities and employees are made available to all individuals and entities participating in the competition on an equitable basis.

(10) Each individual or team who applies is referred to as the “Applicant” and by participating in this challenge, represents, warrants, and agrees that the entry contains accurate information.

(11) Must agree to be recognized and agree to participate in an interview to develop a success story that describes the intervention(s) that promoted health equity. Applicants may be recognized on the Division of Nutrition, Physical Activity, and Obesity, CDC website and/or the CDC website generally. For instance, interventions used by certain applicants that promote health equity may be written into a success story, placed on the Division of Nutrition, Physical Activity, and Obesity website, and/or CDC website, and attributed to the applicants.

(12) By participating in this challenge, individuals and organizations agree to assume any and all risks related to participating in the challenge. Individuals or organizations also agree to waive claims against the Federal Government and its related entities, except in the case of willful misconduct, when participating in the challenge, including claims for injury; death; damage; or loss of property, money, or profits, and including those risks caused by negligence or other causes.

(13) No cash prize will be awarded. The selected nomination will receive a plaque and recognition.

Registration Process for Participants

To compete for this award, individuals and entities may submit an application. Interested parties should go to https://www.cdc.gov/nccdphp/dnpao/state-local-programs/reach/index.htm or https://www.challenge.gov. On these sites, applicants will find the guidelines for participating. Applying will require applicants to provide a free-text written statement of 500 words or less that describes the unique and innovative approach that led to reduced health disparities in chronic disease.

Amount of the Prize

A maximum of one (1) Applicant (individual or team) will receive a plaque (“Winner”). While the winner may be invited to meetings by CDC or non-federal individuals/organizations from outside the agency, attendance at such events is not required as a condition of accepting the Prize. No cash prize will be awarded. The selected applicant will receive a plaque and recognition.

Basis Upon Which Winner Will Be Selected

CDC- or non-federal individuals from outside the agency will facilitate a panel of three to five experts consisting of CDC staff and other national experts to review the applications and select a winning entry from all eligible entries based on the following judging criteria:

• The extent to which the applicant's work shows alignment with CDC Office of Minority Health and Health Equity (OMHHE) health equity goals to decrease health disparities, address social determinants of health, and promote access to high quality preventive healthcare. (20 points)

• The extent to which the applicant's work addressed health issues, including hypertension, heart disease, Type 2 diabetes, and/or obesity, and/or addressed the following preventable risk behaviors: Tobacco use, poor nutrition, or physical inactivity. (20 points)

• The extent to which the applicant's work demonstrated success in systems improvement that impacted health outcomes in one or more of the following areas: Access to quality care, education, employment, income, community environment, housing, and public safety. (20 points)

• The extent to which the applicant's work provided a unique or innovative solution to improving outcomes for groups most affected by health disparities, specifically, African Americans/Blacks, American Indians/Alaska Natives, Asian Americans, Hispanic Americans, and Native Hawaiian/Pacific Islanders. (20 points)

• The extent to which the applicant engaged members of the community across different sectors and successfully demonstrated the development and/or implementation and/or evaluation of the work within the community related to groups most affected by health disparities. (20 points)

Judges will use a point system out of 100 to select the winner putting equal emphasis on the bases discussed above. In addition to the 500 word or less free-text written statement, applicants can also submit evidence that demonstrates that the criteria were met through publications, links to online content, and other forms of written material.

After the selection process has been completed, up to 9 applicants (inclusive of the winner) may be asked to participate in a post-challenge telephone discussion about the interventions used by the individual or team to successfully promote health equity and reduce health disparities. Themes from these discussions may be shared publicly to provide additional information to promote innovative and unique interventions that led to reduced health disparities.

Additional Information

The challenge website may post the number of applications received but will not include confidential or proprietary information about individual applicants. The information submitted by applicants will not be posted on the website. Information collected from applicants will include general details, such as the business name, address, and contact information of the nominee. This type of information is generally publicly available.

Information for the Winner, such as the name of the individual or team, location, priority population, and health outcomes will be shared through press releases, the challenge website, and Division of Nutrition, Physical Activity, and Obesity and CDC Resources. Details regarding the Winner and its application may be shared with the public as part of a success story.

The award is named in honor of Lark Galloway-Gilliam, the founding Executive Director of Community Health Councils, Inc. (CHC). CHC began in 1992 to support planning, resource development, and policy education in response to the growing health crisis in the South Los Angeles area and other under-resourced and marginalized communities throughout LA County. Lark led the CHC team to engage communities and strengthen the connections among organizations in order to improve health, eliminate disparities, and achieve health equity. Under Lark's leadership, CHC became an expert in health equity in Los Angeles, across California, and the country. Lark also served in several leadership roles, including the first president of the National REACH Coalition, the MLK Medical center Advisory Board, and the IP3 Board of Directors for Community Commons.

Compliance With Rules and Contacting Challenge Winners

Applicants and the Challenge Winner (and all members of the team, if a team is selected as the Winner) must comply with all terms and conditions of these Official Rules, and winning is contingent upon fulfilling all requirements herein. The Winner will be notified by email, telephone, or mail after the date of the judging.

Privacy

If applicants choose to provide HHS/CDC with personal information by registering or filling out the submission form through the Challenge.gov website, that information is used to respond to Contestants in matters regarding their submission, announcements of entrants, finalists, and winners of the Contest. Information is not collected for commercial marketing. Winners are permitted to cite that they won this contest.

General Conditions

HHS/CDC reserves the right to cancel, suspend, and/or modify the Challenge, or any part of it, for any reason, at HHS/CDC's sole discretion.

Participation in this Challenge constitutes an applicants' full and unconditional agreement to abide by the Challenge's Official Rules found at www.Challenge.gov.

Authority: 15 U.S.C. 3719.

Dated: September 12, 2019.
Sandra Cashman,
Executive Secretary, Centers for Disease Control and Prevention.

[FR Doc. 2019-20162 Filed 9-17-19; 8:45 am]

BILLING CODE 4163-18-P